ENVIRONMENTAL PROTECTION AGENCY

[EPA-HQ-OA-2012-0033; FRL-9828-7]

Additional Documents Available for Public Review Related to Willingness To Pay Survey for Chesapeake Bay Total Maximum Daily Load: Instrument, Pre-Test, and Implementation; Comment Request

AGENCY: Environmental Protection Agency (EPA).

ACTION: Notice.

SUMMARY: The Environmental Protection Agency has made available for public review a revised Supporting Statement and additional documentation related to its recent information collection request (ICR) submission to OMB entitled “Willingness to Pay Survey for Chesapeake Bay Total Maximum Daily Load: Instrument, Pre-test, and Implementation” (EPA ICR No. 2456.01, OMB Control No. 2010-NEW). The additional documents, now available in the associated docket, are: The Peer Review Report, the Focus Group and Cognitive Interview Report and the Description of Hydrological, Biochemical, and Ecosystem Models (Attachment 17 of the revised Supporting Statement). These documents may provide useful information to interested parties regarding the development and design of the survey instruments proposed for this project. Full transcripts of the focus groups and cognitive interviews were not prepared and are therefore not available. Public comments were previously requested on the ICR via the Federal Register on May 24, 2012 during a 60-day comment period, which was later extended for an additional 30 days. An additional 30-day comment period was initiated upon submission of the ICR to OMB for review and consideration. This notice allows for an additional 30 days of public comments on the ICR in light of the availability of the additional documentation.

DATES: Additional comments may be submitted on or before July 29, 2013.

ADDRESSES: Submit your comments, referencing Docket ID Number EPA-HQ-OA-2012-0033, to (1) EPA online using www.regulations.gov (our preferred method); by email to oei.docket@epa.gov; by fax at (202) 566-9744; or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dr. Nathalie Simon, National Center for Environmental Economics, Office of Policy, (1809T), Environmental Protection Agency, 1200 Pennsylvania Ave. NW., Washington, DC 20460; telephone number: 202-566-2347; fax number: 202-566-2363; email address: simon.nathalie@epa.gov.

SUPPLEMENTARY INFORMATION: The revised Supporting Statement, the Peer Review Report, the Focus Group and Cognitive Interview Report and the Description of Hydrological, Biochemical, and Ecosystem Models are available in the public docket for this ICR together with other supporting documents made available previously which explain in detail the information that the EPA will be collecting. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The Clean Water Act (CWA) directs EPA to coordinate Federal and State efforts to improve water quality in the Chesapeake Bay. In 2009, Executive Order (E.O.) 13508 reemphasized this mandate, directing EPA to define the next generation of tools and actions to restore water quality in the Bay and describe the changes to be made to regulations, programs, and policies to implement these actions. The Chesapeake Bay watershed encompasses 64,000 square miles in parts of six states and the District of Columbia. It is the largest estuary in the United States and the third largest in the world. The Chesapeake Bay's unique set of ecological and cultural elements has motivated efforts to preserve and restore its condition for more than 25 years. Significant progress has been made over that period however, pollution budgets, called Total Maximum Daily Loads (TMDLs), are necessary to continue progress toward the goal of a healthy Bay. The watershed states of New York, Pennsylvania, Delaware, West Virginia, Virginia, and Maryland, as well as the District of Columbia, have developed Watershed Implementation Plans (WIPs) detailing the steps each will take to meet its obligations under the TMDL.

As part of the next phase of this effort, EPA is undertaking an assessment of the costs and benefits of meeting Total Maximum Daily Loads (TMDLs), of nitrogen, phosphorus, and sediment for the Chesapeake Bay. As an input to the TMDL benefits study, EPA's National Center for Environmental Economics (NCEE) is seeking approval to conduct a stated preference survey to collect data on households' use of Chesapeake Bay and its watershed, willingness to pay for a variety of water quality improvements likely to follow from pollution reduction programs, and demographic information. If approved, the survey would be administered by mail in two phases to a sample of 9,140 residents living in the Chesapeake Bay states, Chesapeake Bay watershed, and other eastern states within 100 miles of the Atlantic Ocean.

Benefits from meeting the TMDL for the Chesapeake Bay will accrue to those who live near the Bay or visit for recreation, those who live near or visit lakes and rivers in the watershed, and those who live further away and/or may never visit the Bay but have a general concern for the environment quality of the Bay. While benefits from the first two categories can be measured using hedonic property value, recreational demand, and other revealed preference approaches, only stated preference methods can capture nonuse benefits. This study will provide policy makers with additional information on the public's preferences for improvements to the Chesapeake Bay and lakes in the watershed. NCEE will use the survey responses to estimate willingness to pay for changes related to reductions in nitrogen, phosphorous, and sediment loadings to the Bay and lakes in the Chesapeake Bay watershed. The analysis relies on state of the art theoretical and statistical tools for non-market welfare analysis. The results of this study will inform the public and policy makers about the benefits of improvements to the Chesapeake Bay and lakes in the watershed. A non-response survey will also be administered to inform the interpretation and validation of survey responses. Participation in the survey will be voluntary and the identity of the respondents will be kept confidential to the extent provided by law.

Dated: June 20, 2013.
Shelley Levitt,
Acting Director, National Center for Environmental Economics.

[FR Doc. 2013-15439 Filed 6-26-13; 8:45 am]

BILLING CODE 6560-50-P